DEPARTMENT OF AGRICULTURE

Animal and Plant Health Inspection Service

[Docket No. APHIS-2007-0044]

Draft Environmental Impact Statement; Determination of Regulated Status of Alfalfa Genetically Engineered for Tolerance to the Herbicide Glyphosate

AGENCY: Animal and Plant Health Inspection Service, USDA.

ACTION: Notice of availability of a draft environmental impact statement and public meetings.

SUMMARY: We are advising the public that the Animal and Plant Health Inspection Service has prepared a draft environmental impact statement in connection with making a determination on the status of the Monsanto Company and Forage Genetics International alfalfa lines designated as events J101 and J163 as regulated articles. This notice also provides notice of public meetings.

DATES: We will consider all comments that we receive on or before February 16, 2010. We will also consider comments made at public meetings to be held on January 19, 2010, and on February 3, 4, and 9, 2010.

ADDRESSES: The public meetings will be held in Las Vegas, NV, Kearney, NE, Lincoln, NE, and Riverdale, MD (see the Supplementary Information section of this notice for the address of each hearing site). You may submit written comments on the draft environmental impact statement by either of the following methods:

• Federal eRulemaking Portal: Go to (http://www.regulations.gov/fdmspublic/component/main?main=DocketDetail&d=APHIS-2007-0044) to view the draft environmental impact statement, or to submit or view public comments.

• Postal Mail/Commercial Delivery: Please send two copies of your comment to Docket No. APHIS-2007-0044, Regulatory Analysis and Development, PPD, APHIS, Station 3A-03.8, 4700 River Road Unit 118, Riverdale, MD 20737-1238. Please state that your comment refers to Docket No. APHIS-2007-0044.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Andrea Huberty, Branch Chief, Regulatory and Environmental Analysis Branch, BRS, APHIS, 4700 River Road Unit 146, Riverdale, MD 20737; (301) 734-0485.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.”

The regulations in § 340.6(a) provide that any person may submit a petition to the Animal and Plant Health Inspection Service (APHIS) seeking a determination that an article should not be regulated under 7 CFR part 340. Paragraphs (b) and (c) of § 340.6 describe the form that a petition for a determination of nonregulated status must take and the information that must be included in the petition.

In a notice published in the Federal Register on June 27, 2005 (70 FR 36917-36919, Docket No. 04-085-3), APHIS advised the public of its determination, effective June 14, 2005, that the Monsanto/Forage Genetics International (FGI) alfalfa events J101 and J163 were no longer considered regulated articles under the regulations governing the introduction of certain genetically engineered organisms. That determination was subsequently challenged in the United States District Court for the Northern District of California by the Center for Food Safety, other associations, and several organic alfalfa growers. The lawsuit alleged that APHIS’ decision to deregulate the genetically engineered glyphosate-tolerant alfalfa events J101 and J163 violated the National Environmental Policy Act (NEPA), the Endangered Species Act, and the Plant Protection Act.

On February 13, 2007, the court in that case issued its memorandum and order in which it determined that APHIS had violated NEPA by not preparing an environmental impact statement (EIS) in connection with its deregulation determination. The court ruled that the environmental assessment prepared by APHIS for its deregulation determination failed to adequately consider certain environmental impacts in violation of NEPA. The deregulation determination was vacated and APHIS was directed by the court to prepare an EIS in connection with its new determination on the regulated status of the events.

APHIS has prepared a draft EIS, titled “Glyphosate-Tolerant Alfalfa Events J101 and J163: Request for Nonregulated Status” (November 2009), regarding this determination of regulated status. The EIS is available on Regulations.gov for review and comment, and may be accessed via the Internet address provided above under the heading ADDRESSES.

A notice of availability regarding the draft EIS was also published by the Environmental Protection Agency in the Federal Register on December 18, 2009 (74 FR 67206-67207, Docket No. ER-FRL-8986-6).

Public Meetings

We are advising the public that we are hosting four public meetings. The public meetings will be held as follows:

• Tuesday, January 19, 2010, in the Golden Nugget Hotel, 129 Fremont Street, Las Vegas, NV, from 11 a.m. to 2 p.m., local time.

• Wednesday, February 3, 2010, in the Buffalo County Fairgrounds Exhibit Center, 3807 Avenue N, Kearney, NE, from 3 p.m. to 6 p.m., local time.

• Thursday, February 4, 2010, in the Holiday Inn Haymarket, 141 North 9th Street, Lincoln, NE, from 4 p.m. to 7 p.m., local time.

• Tuesday, February 9, 2010, in the USDA Center at Riverside, 4700 River Road, Riverdale, MD, from 4 p.m. to 7 p.m., local time.

A representative of APHIS will preside at the public meetings. Any interested person may appear and be heard in person, by attorney, or by other representative. Written statements may be submitted and will be made part of the meeting record.

Registration will take place 30 minutes prior to the scheduled start of the meeting. Persons who wish to speak at a meeting will be asked to sign in with their name and organization to establish a record for the meeting. We ask that anyone who reads a statement provide two copies to the presiding officer at the meeting.

The presiding officer may limit the time for each presentation, so that all interested persons appearing at each meeting have an opportunity to participate. Each meeting may be terminated at any time if all persons desiring to speak have been heard.

Parking and Security Procedures

Please note that a fee of $4 in exact change is required to enter the parking lot at the USDA Center at Riverside. The machine accepts $1 bills or quarters.

Upon entering the building, visitors should inform security personnel that they are attending the public meeting regarding the regulated status of alfalfa genetically engineered for tolerance to the herbicide glyphosate. State issued photo identification is required and all bags will be screened. Security personnel will direct people to the registration tables. Registration upon arrival is required for all participants.

Done in Washington, DC, this 6th day of January 2010.

Kevin Shea
Acting Administrator, Animal and Plant Health Inspection Service.

[FR Doc. 2010-345 Filed 1-11-10: 11:49 am]

BILLING CODE: 3410-34-S